Proclamation 10361 of March 31, 2022

National Sexual Assault Awareness and Prevention Month, 2022

By the President of the United States of America

A Proclamation

I was raised to believe that one of the greatest sins is the abuse of power—whether it is economic, psychological, or physical. The cruel fact is that people of every age, ability, race, sex, gender identity, sexual orientation, national origin, socioeconomic background, and religion suffer the pain and trauma of the abuse of power that is sexual assault. Sexual violence can occur anywhere—and millions of assaults occur each year at the workplace, in the home, at school, and online. These assaults are an intolerable affront to our shared humanity. During National Sexual Assault Awareness and Prevention Month, we renew our commitment to ensuring that every person can live a life free from sexual violence. We continue in our commitment to stand with survivors, hold perpetrators accountable, and dismantle a culture that is complicit in allowing sexual violence to continue.

Sexual assault is also a public health crisis. According to the Centers for Disease Control and Prevention, nearly 1 in 5 women in America experiences a rape or attempted rape, and nearly 44 percent of women and about 25 percent of all men experience some form of sexual violence in their lifetime. Tragically, many of those assaulted are young, and research shows that these assaults can have lifelong effects on health and are linked to chronic illnesses. Too often, this trauma is compounded by lost productivity, the challenge of seeking accountability, and the ensuing costs of medical and mental health care.

My Administration is committed to supporting survivors and alleviating the public health crisis of sexual assault. That is why we included $450 million in the American Rescue Plan to provide funding for domestic violence and sexual assault services, including rape crisis centers. We also included a historic commitment to funding culturally-specific community-based organizations to address the needs of survivors who face systemic barriers to accessing support and resources, including survivors of color, survivors with disabilities, and LGBTQI+ survivors. My Administration continues to fund innovative programs to support sexual assault survivors in rural and remote communities.

I am committed to addressing sexual violence wherever it occurs. Last year, I issued an Executive Order directing the Department of Education to review Title IX regulations and other agency actions to ensure that all students have an educational environment that is free from discrimination on the basis of sex. Because 1 in 3 women under the age of 35 has experienced sexual harassment online, I have made addressing online forms of sexual violence, harassment, and abuse a priority, and my Administration recently launched a new Global Partnership for Action on Gender-Based Online Harassment and Abuse.

Sexual violence is also a matter of national security and military readiness. To advance the goal of eliminating sexual assault in our Armed Forces, I signed the 2022 National Defense Authorization Act, which includes the historic shift of legal decisions in cases of sexual assault from commanders to independent, specialized military prosecutors. To implement the I Am Vanessa Guillén Act, I also issued an Executive Order to add sexual harassment as a specific offense under the Uniform Code of Military Justice.

I was proud to support and sign into law the Ending Forced Arbitration of Sexual Assault and Sexual Harassment Act of 2021. This law advances efforts to prevent and address sexual harassment and sexual assault and promotes access to justice by guaranteeing that people who have experienced sexual assault and sexual harassment in the workplace are not forced into binding arbitration and are instead allowed to choose whether to go to court.

Ending violence against women and eliminating sexual assault has been a priority for me throughout my life. It is why I wrote and championed the original Violence Against Women Act (VAWA), a law that has transformed how we respond to sexual assault and which I count as one of my proudest legislative accomplishments. I am proud to have recently signed into law the reauthorization of VAWA, which expands prevention efforts and protections for survivors of sexual assault and other forms of gender-based violence. The law will provide increased resources and training so that our law enforcement and our judicial systems are better able to appropriately handle these cases. It includes a new focus on addressing technology-facilitated abuse and establishes a Federal civil cause of action for victims of non-consensual distribution of intimate images. The Act will strengthen rape prevention and education efforts, support rape crisis centers, improve the training of sexual assault forensic examiners, reduce the backlog of untested DNA kits, and broaden access to legal services for all survivors. It will also expand recognition of the special criminal jurisdiction of Tribal courts to cover non-Native perpetrators of sexual assault, sex trafficking, child abuse, and stalking.

This month, we honor the bravery and leadership of survivors by rededicating ourselves to eliminating sexual violence. It will require care and commitment from each of us to realize an America where everyone is free from the threat and impact of sexual violence.

NOW, THEREFORE, I, JOSEPH R. BIDEN JR., President of the United States of America, by virtue of the authority vested in me by the Constitution and laws of the United States, do hereby proclaim April 2022 as National Sexual Assault Awareness and Prevention Month. I urge all Americans to support sexual assault survivors including when survivors reach out and disclose abuse.

IN WITNESS WHEREOF, I have hereunto set my hand this thirty-first day of March, in the year of our Lord two thousand twenty-two, and of the Independence of the United States of America the two hundred and forty-sixth.

[FR Doc. 2022-07275

Filed 4-4-22; 8:45 am]

Billing code 3395-F2-P